DEPARTMENT OF ENERGY

Federal Energy Regulatory Commission

[Project No. 2009-185]

Virginia Electric and Power Company; Notice of Effectiveness of Withdrawal of Non-Project Use Water Withdrawal Application

On April 7, 2025, and supplemented June 23, 2025, Virginia Electric and Power Company, doing businesses as Dominion Virginia Power/Dominion North Carolina Power (licensee) filed an application to permit an increase in the withdrawal allowance for a Non-Project Use Water Withdrawal operated by the Roanoke River Service Authority at the Roanoke Rapids & Gaston Hydroelectric Project No. 2009. On August 29, 2025, the licensee filed request to withdraw the application.

No motion in opposition to the notice of withdrawal has been filed, and the Commission has taken no action to disallow it. Pursuant to Rule 216(b) of the Commission's Rules of Practice and Procedure,¹ the withdrawal of the application became effective on September 15, 2025, and this proceeding is hereby terminated.

¹ 18 CFR 385.216(b) (2025).

Dated: September 23, 2025.
Carlos D. Clay,
Deputy Secretary.

[FR Doc. 2025-18734 Filed 9-25-25; 8:45 am]

BILLING CODE 6717-01-P